OFFICE OF THE UNITED STATES TRADE REPRESENTATIVE

Determinations Under the African Growth and Opportunity Act

AGENCY: Office of the United States Trade Representative.

ACTION: Notice.

SUMMARY: The United States Trade Representative (USTR), as of the date of publication of this notice in the Federal Register, designates the Democratic Republic of Congo (DROC) as a beneficiary sub-Saharan African country eligible to receive the trade benefits provided for in the African Growth and Opportunity Act for articles other than textiles and apparel.

EFFECTIVE DATE: October 31, 2003.

FOR FURTHER INFORMATION CONTACT: Constance Hamilton, Senior Director for African Affairs, Office of the United States Trade Representative, (202) 395-9514.

SUPPLEMENTARY INFORMATION: The African Growth and Opportunity Act (Title I of the Trade and Development Act of 2000, Pub. L. No. 106-200) (AGOA) provides trade benefits to the countries of sub-Saharan Africa to promote increased trade and investment between the United States and sub-Saharan Africa and economic development in the region.

In Proclamation 7657 (March 28, 2003), the President designated the Democratic Republic of Congo as an “eligible sub-Saharan African country” pursuant to section 104 of the AGOA (19 U.S.C. 3703), and authorized the USTR to exercise the authority provided to the President under section 506A(a)(1) of the Trade Act of 1974, as amended (the “1974 Act”) (19 U.S.C. 2466a(a)(1)) to designate DROC as a “beneficiary sub-Saharan African country” eligible to receive the trade benefits of the AGOA for articles other than textiles and apparel. The President directed the USTR to announce any such exercise of authority in the Federal Register.

The President also proclaimed that, if it is designated as a beneficiary sub-Saharan African country, DROC would be a lesser developed beneficiary country for purposes of section 112(b)(3)(B) of the AGOA (19 U.S.C. 3721(b)(3)(B)). Lastly, the President decided to authorize the USTR, with respect to any designation of DROC as a beneficiary sub-Saharan African country, to exercise the authority provided to the President under section 604 of the 1974 Act (19 U.S.C. 2483) to embody modifications and technical or conforming changes in the Harmonized Tariff Schedule of the United States (HTS).

Based on progress DROC has made in stabilizing its political situation, I have determined that DROC meets the eligibility criteria set forth in section 506A(a)(1) of the 1974 Act and have decided, as of the date of publication of this notice in the Federal Register, to designate DROC as a beneficiary sub-Saharan African country for purposes of receiving the trade benefits of the AGOA for articles other than textiles and apparel. In order to reflect this designation in the HTS, general note 16(a) to the HTS is modified by inserting in alphabetical sequence in the list of beneficiary sub-Saharan African countries “Democratic Republic of Congo.” This modification to the HTS is effective with respect to respect to articles entered, or withdrawn from warehouse for consumption, on or after the date of publication of this notice in the Federal Register. DROC is also a lesser developed beneficiary sub-Saharan African country for purposes of section 112(b)(3) of the AGOA. DROC may now begin the process to become eligible for the trade benefits of the AGOA for textile and apparel articles.

Robert B. Zoellick,
United States Trade Representative.

[FR Doc. 03-27398 Filed 10-30-03; 8:45 am]

BILLING CODE 3190-W3-P